NUCLEAR REGULATORY COMMISSION

[Docket Nos. 52-014 and 52-015; NRC-2008-0043]

Tennessee Valley Authority, Combined License Application for Bellefonte Units 3 and 4 Exemption from the Requirements to Submit an Update to the Departures Report Submitted With a Combined License Application

AGENCY: Nuclear Regulatory Commission.

ACTION: Exemption.

SUMMARY: The U.S. Nuclear Regulatory Commission (NRC) is issuing an exemption in response to an October 28, 2013, request from Tennessee Valley Authority (TVA). On September 29, 2010, TVA requested that the NRC suspend review of its combined license (COL) application until further notice. On October 28, 2013, TVA requested an exemption from certain regulatory requirements that require them to submit a departures report that describes the generic changes and plant-specific departures from the generic Design Certification Document (DCD) (departures report) until requesting the NRC to resume its review of their COL application. The NRC staff reviewed this request and determined that it is appropriate to grant the exemption, but stipulated that the departures report must be submitted prior to requesting the NRC resume its review of the COL application or by December 31, 2014, whichever comes first.

ADDRESSES: Please refer to Docket ID NRC-2008-0043 when contacting the NRC about the availability of information regarding this document. You may access publicly-available information related to this action by the following methods:

• Federal Rulemaking Web site: Go to http://www.regulations.gov and search for Docket ID NRC-2008-0043. Address questions about NRC dockets to Carol Gallagher; telephone: 301-287-3422; email: Carol.Gallagher@nrc.gov. For technical questions, contact the individuals listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that the document is referenced.

• NRC's PDR: You may examine and purchase copies of public documents at the NRC's PDR, Room O1-F21, One White Flint North, 11555 Rockville Pike, Rockville, Maryland 20852.

FOR FURTHER INFORMATION CONTACT: Anthony Minarik, Office of New Reactors, U.S. Nuclear Regulatory Commission, Washington, DC 20555-0001; telephone: 301-415-6185; email: Anthony.Minarik@nrc.gov.

SUPPLEMENTARY INFORMATION: The following sections include the text of the exemption in its entirety as issued to TVA.

1.0 Background

On October 30, 2007 (Agencywide Documents Access and Management System (ADAMS) Accession No. ML073110527), Tennessee Valley Authority (TVA), submitted to the U.S. Nuclear Regulatory Commission (NRC) a Combined License (COL) Application for two units of Westinghouse Electric Company's AP1000 advanced pressurized water reactors (AP1000) to be constructed and operated at the Bellefonte site, located near the cities of Hollywood and Scottsboro in Jackson County in northeast Alabama. (Docket Numbers 052000-14 and 052000-15). The NRC docketed the Bellefonte Nuclear Plant, Units 3 and 4 (BLN 3&4) COL application on January 28, 2008. On September 29, 2010 (ADAMS Accession No. ML102740476), TVA requested that the NRC defer the review of the BLN 3&4 COL application. In a letter dated November 24, 2010 (ADAMS Accession No. ML102930207), the NRC granted TVA's request to defer the review and stated it was in a suspended status, meaning all review activities related to the BLN 3&4 COL application were eventually suspended after a closeout period while the application remained docketed. On October 28, 2013 (ADAMS Accession No. ML13325B058), TVA requested an exemption from the Title 10 of the Code of Federal Regulations (10 CFR) 10 CFR Part 52, Appendix D, Paragraph X.B.2 and X.B.3.b requirements to submit a report that describes the departures from the generic D.C.D which reflect the generic changes and plant-specific departures from the certified design referenced in the application. These reports are required to be submitted semi-annually and may be submitted along with updates to the COL application.

2.0 Request/Action

10 CFR Part 52, Appendix D, Paragraphs X.B.2 and X.B.3.b require that an applicant for a COL under Subpart C of 10 CFR Part 52, submit a departures report on a semi-annual basis. The departures report details the differences between the application and the certified design it references, in the case of Bellefonte that is the AP1000 design, during the period from docketing the application to the Commission making its 52.103(g) finding.

Pursuant to 10 CFR Part 52, Appendix D, Paragraph X.B.2 and X.B.3.b the next departures report submittal would be due in January 2014 as TVA's application was docketed on January 28, 2008, and TVA had submitted Revision 3 to its Departures and Exemption Request Updates on December 22, 2010 (ADAMS Accession No. ML110040464), as part of Revision 3 to the BLN 3&4 COL application. In a letter dated September 29, 2010 (ADAMS Accession No. ML102740476), TVA requested that the NRC suspend review of the BLN 3&4 COL application. The NRC granted TVA's request for suspension (ADAMS Accession No. ML102930207) and all review activities related to the BLN 3&4 COL application were eventually suspended after a closeout period while the application remained docketed. In a letter dated December 19, 2011 (ADAMS Accession No. ML11356A068), TVA stated that they were still deferred and had no updates to their plant-specific D.C.D. In a letter dated October 28, 2013 (ADAMS Accession No. ML13325B058), TVA requested that the BLN 3&4 COL application be exempt from the 10 CFR Part 52, Appendix D, Paragraph X.B.2 and X.B.3.b requirements until requesting the NRC to resume the review of the BLN 3&4 COL application.

TVA's exemption request is interpreted as a one-time schedule change from the requirements of 10 CFR Part 52, Appendix D, Paragraph X.B.2 and X.B.3.b. In its request, TVA asked the NRC to grant the exemption from 10 CFR Part 52, Appendix D, Paragraph X.B.2 and X.B.3.b, until they had asked the NRC to resume the review of the BLN 3&4 COL application. Because such a request is seen as open-ended, the NRC included an imposed December 31, 2014, deadline as part of its review of the exemption request. The exemption would allow TVA to submit the next departures report at a later date, but still in advance of NRC's reinstating its review of the application and in any event, by December 31, 2014. The current requirement to submit a departures report semi-annually could not be changed, absent the exemption.

3.0 Discussion

Pursuant to 10 CFR 52.7 and the requirements listed in 10 CFR 50.12, the Commission may, upon application by any interested person or upon its own initiative, grant exemptions from the requirements of 10 CFR Part 52, including 10 CFR Part 52, Appendix D, Paragraph X.B.2 and X.B.3.b when: (1) the exemption(s) are authorized by law, will not present an undue risk to public health or safety, and are consistent with the common defense and security; and (2) special circumstances are present. As relevant to the requested exemption, special circumstances exist if: “[a]pplication of the regulation in the particular circumstances would not serve the underlying purpose of the rule or is not necessary to achieve the underlying purpose of the rule” (10 CFR 50.12(a)(2)(ii)).

The purpose of 10 CFR Part 52, Appendix D, Paragraph X.B.2 and X.B.3.b is to ensure that the NRC has the most up to date information regarding the site-specific differences between the application and the certified design it references, in order to perform an efficient and effective review. The rule targeted those applications that are being actively reviewed by the NRC. Because TVA requested the NRC suspend its review of the BLN 3&4 COL application, compelling TVA to submit the departures report on a semi-annual basis is not necessary as the information will not be changed or updated until the review is restarted. The purpose of 10 CFR Part 52, Appendix D, Paragraph X.B.2 and X.B.3.b would still be achieved if the departures report is submitted prior to restarting the review and in any event by December 31, 2014.

For the reasons stated above, the application of 10 CFR Part 52, Appendix D, Paragraph X.B.2 and X.B.3.b in this particular circumstance can be deemed unnecessary in order to achieve the underlying purpose of the rule, therefore special circumstances are present.

Authorized by Law

The exemption is a one-time schedule exemption from the requirements of 10 CFR Part 52, Appendix D, Paragraph X.B.2 and X.B.3.b. The exemption would allow TVA to submit the next departures report related to the BLN 3&4 COL application on or before December 31, 2014, in lieu of the required scheduled submittal in January 2014. As stated above, 10 CFR 50.12 allows the NRC to grant exemptions from the requirements of 10 CFR Part 50. The NRC staff has determined that granting TVA the requested one-time exemption from the requirements of 10 CFR Part 52, Appendix D, Paragraph X.B.2 and X.B.3.b will not result in a violation of the Atomic Energy Act of 1954, as amended, or the NRC's regulations. Therefore, the exemption is authorized by law.

No Undue Risk to Public Health and Safety

The underlying purposes of 10 CFR Part 52, Appendix D, Paragraph X.B.2 and X.B.3.b, is to alert the NRC of any plant-specific differences from the application and the certified design associated with a COL application in order to support an effective and efficient review by the NRC staff and issuance of the NRC staff's safety evaluation report. The requested exemption is solely administrative in nature, in that it pertains only to the schedule for submittal to the NRC of the departures report related to the BLN 3&4 COL application. In addition, since the review of the application has been suspended, any update to the application submitted by TVA will not be reviewed by the NRC at this time. Plant construction cannot proceed until the NRC review of the application is completed, a mandatory hearing is completed, and a license is issued. Additionally, based on the nature of the requested exemption as described above, no new accident precursors are created by the exemption; thus, neither the probability nor the consequences of postulated accidents are increased. Therefore, there is no undue risk to public health and safety.

Consistent With Common Defense and Security

The requested exemption would allow TVA to submit the next departures report related to the BLN 3&4 COL application prior to requesting the NRC to resume the review and, in any event, on or before December 31, 2014. This schedule change has no relation to security issues. Therefore, the common defense and security is not impacted.

Special Circumstances

Special circumstances, in accordance with 10 CFR 50.12(a)(2)(ii) are present “[a]pplication of the regulation in the particular circumstances would not serve the underlying purpose of the rule or is not necessary to achieve the underlying purpose of the rule” (10 CFR 50.12(A)(2)(ii)). The underlying purpose of 10 CFR Part 52, Appendix D, Paragraph X.B.2 and X.B.3.b is to ensure that the NRC is fully aware and alerted of any application specific differences between the COL application and the certified design it may reference (in this case BLN 3&4 COL application and the AP1000 certified design) in order to perform its review of a COL application efficiently and effectively. Because the requirement to submit a departures report semi-annually as it relates to the referenced certified design was intended for active reviews and BLN 3&4 COL application review is now suspended, the application of this regulation in this particular circumstance is unnecessary in order to achieve its underlying purpose. If the NRC were to grant this exemption, and TVA were then required to submit the departures report related to the BLN 3&4 COL application by December 31, 2014, or prior to any request to restart of their review, the purpose of the rule would still be achieved.

Therefore, since the underlying purpose of the rule is not served by application of the rule in this circumstance, the special circumstance required by 10 CFR 50.12(a)(2)(ii) for the granting of an exemption from 10 CFR Part 52, Appendix D, Paragraph X.B.2 and X.B.3.b exists.

Eligibility for Categorical Exclusion From Environmental Review:

With respect to the exemption's impact on the quality of the human environment, the NRC has determined that this specific exemption request is eligible for categorical exclusion as identified in 10 CFR 51.22(c)(25) and justified by the NRC staff as follows:

(c) The following categories of actions are categorical exclusions:

(25) Granting of an exemption from the requirements of any regulation of this chapter, provided that—

(i) There is no significant hazards consideration;

The criteria for determining whether there is no significant hazards consideration are found in 10 CFR 50.92. The proposed action involves only a schedule change regarding the submission of a departures report related to the application for which the licensing review has been suspended. Therefore, there is no significant hazards consideration because granting the proposed exemption would not:

(1) Involve a significant increase in the probability or consequences of an accident previously evaluated; or

(2) Create the possibility of a new or different kind of accident from any accident previously evaluated; or

(3) Involve a significant reduction in a margin of safety.

(ii) There is no significant change in the types or significant increase in the amounts of any effluents that may be released offsite;

The proposed action involves only a schedule change which is administrative in nature, and does not involve any changes to be made in the types or significant increase in the amounts of effluents that may be released offsite.

(iii) There is no significant increase in individual or cumulative public or occupational radiation exposure;

Since the proposed action involves only a schedule change which is administrative in nature, it does not contribute to any significant increase in occupational or public radiation exposure.

(iv) There is no significant construction impact;

The proposed action involves only a schedule change which is administrative in nature; the application review is suspended until further notice, and there is no consideration of any construction at this time, and hence the proposed action does not involve any construction impact.

(v) There is no significant increase in the potential for or consequences from radiological accidents; and

The proposed action involves only a schedule change which is administrative in nature, and does not impact the probability or consequences of accidents.

(vi) The requirements from which an exemption is sought involve:

(B) Reporting requirements;

The exemption request involves submitting a departures report related to the BLN 3&4 COL application by TVA and

(G) Scheduling requirements;

The proposed exemption relates to the schedule for submitting departures report related to the BLN 3&4 COL application by TVA.

4.0 Conclusion

Accordingly, the Commission has determined that, pursuant to 10 CFR 52.7 and the requirements listed in 50.12(a), the exemption is authorized by law, will not present an undue risk to the public health and safety, and is consistent with the common defense and security. Also special circumstances are present. Therefore, the Commission hereby grants TVA a one-time exemption from the requirements of 10 CFR Part 52, Appendix D, Paragraph X.B.2 and X.B.3.b pertaining to the BLN 3&4 COL application to allow submittal of the next departures report related the BLN 3&4 COL application prior to any request to the NRC to resume the review, and in any event, no later than December 31, 2014.

Pursuant to 10 CFR 51.22, the Commission has determined that the exemption request meets the applicable categorical exclusion criteria set forth in 10 CFR 51.22(c)(25), and the granting of this exemption will not have a significant effect on the quality of the human environment.

This exemption is effective upon issuance.

Dated at Rockville, Maryland, this 19th day of December 2013.
For the Nuclear Regulatory Commission.
Lawrence J. Burkhart,
Chief, Licensing Branch 4, Division of New Reactor Licensing, Office of New Reactors.

[FR Doc. 2013-31235 Filed 12-27-13; 8:45 am]

BILLING CODE 7590-01-P